DEPARTMENT OF INTERIOR

Geological Survey

Request for Public Comments on Information Collection To Be Submitted to OMB for Review Under the Paperwork Reduction Act

A request to reinstate the information collection described below will be submitted to the Office of Management and Budget for approval under the provisions of the Paperwork Reduction Act (44 U.S.C. chapter 35). Copies of the proposed collection of information may be obtained by contacting the Bureau's clearance officer at the phone number listed below. Comments and suggestions on the proposal should be made within 60 days directly to the Bureau clearance officer, U.S. Geological Survey, 807 National Center, 12201 Sunrise Valley Drive, Reston, Virginia 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the Bureau estimate of the burden of the collection of information, including the validity of the methodology and assumptions used;

3. The quality, utility, and clarity of the information to be collected; and

4. How to minimize the burden of the collection of information on those who are to respond, including the use of appropriate automated, electronic, mechanical, or other forms of information technology.

Title: North American Bird Banding Program—Banding Database.

Previous OMB Approval Number: 1018-0006.

Summary: In accordance with the Migratory Bird Treaty Act, the USGS Bird Banding Laboratory issues permits for the trapping and marking of migratory birds. These permits require that data on marked birds be submitted to the Bird Banding Laboratory in a timely fashion. Currently this data is submitted electronically using a program (Band Manager) supplied by the Bird Banding Laboratory and the Canadian Bird Banding Office to all active permit holders. Data may also be submitted using a paper form. These data are used to provide researchers with information needed for projects and also to respond to the 85,000 reports of banded birds received annually by the Bird Banding Laboratory and the Canadian Bird Banding Office. These data are vital to the study of avian biology. Data are received for approximately 1.2 million birds per year. For further information on the North American Bird Banding Program, see our Web site (http://www.pwrc,usgs.gov/bbl).

Estimated Annual Number of Respondents: 2400.

Estimated Annual Burden Hours: 27, 563.

Affected Public: Primarily U.S. and Canadian citizens who hold either a U.S. or Canadian permit to mark and tag birds (bird banding).

For Further Information Contact: To obtain copies of the survey, contact the Bureau clearance officer, U.S. Geological Survey, 807 National Center, 12201 Sunrise Valley Drive, Reston, Virginia 20192, telephone (703) 648-7313 or see the Web site at http://www.pwrc,usgs.gov/bbl.

Dated: August 11, 2003.
Ken Williams,
Acting Associate Director for Biology.

[FR Doc. 03-21430 Filed 8-20-03; 8:45 am]

BILLING CODE 4310-Y7-M